FEDERAL COMMUNICATIONS COMMISSION

Privacy Act System of Records

AGENCY: Federal Communications Commission (FCC or Commission).

ACTION: Notice; one new Privacy Act system of records.

SUMMARY: Pursuant to subsection (e)(4) of the Privacy Act of 1974, as amended (Privacy Act), 5 U.S.C. 552a, the FCC proposes to add one new system of records, FCC/OMD-23, “Cadapult Space Management System (CSMS).” The FCC's Space Management Center (SMC) in the Office of Managing Director (OMD) will use the CSMS information system to allocate the offices, workstations, and facility workspaces for FCC employees and contractors following the FCC/National Treasury Union (NTEU) space assignment policy. In the event of an emergency, the SMC staff will devise a “Reconstitution Plan” in which they will extract information from the CSMS information system to create the space requirements for alternative work location(s) in other buildings to be used to relocate FCC employees and/or contractors. This information may be shared with the General Services Administration (GSA), National Telecommunications and Information Administration (NTIA), Department of Homeland Security (DHS), and Federal Emergency Management Agency (FEMA), etc.; District of Columbia, Virginia, and Maryland state governments, etc.; and other Federal, state, and local agencies involved in Federal agency evacuation, emergency facilities, space management, and/or relocation policies and plans, etc., as part of the FCC's Reconstitution Plan.

DATES: In accordance with 5 U.S.C. 552a(e)(4) and (e)(11) of the Privacy Act, any interested person may submit written comments concerning the new system(s) of records on or before October 18, 2010. The Office of Management and Budget (OMB), which has oversight responsibility under the Privacy Act to review the system of records, and Congress may submit comments on or before October 26, 2010. The proposed new system of records will become effective on October 26, 2010 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Performance Evaluation and Records Management (PERM), Federal Communications Commission (FCC), 445 12th Street, SW., Washington, DC 20554, or via the Internet at Leslie.Smith@fcc.gov.

FOR FURTHER INFORMATION CONTACT: Contact Leslie F. Smith, Performance Evaluation and Records Management (PERM), Federal Communications Commission (FCC), 445 12th Street, SW., Washington, DC 20554, (202) 418-0217, or via the Internet at Leslie.Smith@fcc.gov.

SUPPLEMENTARY INFORMATION: As required by the Privacy Act of 1974, as amended, 5 U.S.C. 552a(e)(4) and (e)(11), this document sets forth notice of the proposed new system of records to be maintained by the FCC. This notice is a summary of the more detailed information about the proposed new system of records, which may be viewed at the location given above in the ADDRESSES section. The purpose for adding this new system of records, FCC/OMD-23, “Cadapult Space Management System (CSMS)” is to enable the FCC's Space Management Center (SMC) to use the CSMS information system to allocate the offices, workstations, and facility workspaces for FCC employees and contractors following the FCC/National Treasury Union (NTEU) space assignment policy. In the event of an emergency, the SMC staff will devise a “Reconstitution Plan” in which they will extract information from the CSMS information system to create the space requirements for alternative work location(s) in other buildings to be used to relocate FCC employees and/or contractors. This information may be shared with the General Services Administration (GSA), National Telecommunications and Information Administration (NTIA), Department of Homeland Security (DHS), and Federal Emergency Management Agency (FEMA), etc.; District of Columbia, Virginia, and Maryland state governments, etc.; and other Federal, state, and local agencies involved in Federal agency evacuation, emergency facilities, space management, and/or relocation policies and plans, etc., as part of the FCC's Reconstitution Plan.

This notice meets the requirement documenting the proposed new system(s) of records that is/are to be added to the systems of records that the FCC maintains, and provides the public, OMB, and Congress with an opportunity to comment.

FCC/OMD-23

SYSTEM NAME:

Cadapult Space Management System (CSMS).

SECURITY CLASSIFICATION:

The FCC's Security Operations Center (SOC) has not assigned a security classification to this system of records.

SYSTEM LOCATION:

Space Management Center (SMC), Office of Managing Director (OMD), Federal Communications Commission (FCC), 445 12th Street, SW., Washington, DC 20554.

CATEGORIES OF INDIVIDUALS COVERED BY THE SYSTEM:

The categories of individuals in this system are the FCC employees and contractors.

CATEGORIES OF RECORDS IN THE SYSTEM:

The categories of records in this system include each FCC employee and/or contractor's organization (bureau/office/division), pay type, grade, supervisory status, bargaining unit, workspace location (office or workstation), work telephone number, and barcode(s) on information technology (IT) equipment assigned to the employee or contractor.

AUTHORITY FOR MAINTENANCE OF THE SYSTEM:

5 U.S.C. 301, 44 U.S.C. 3101, Executive Order 12411, Government Work Space Management Reforms, Section 486 of Title 40 of the United States Code, and the NTEU/FCC Basic Negotiated Agreement, Article 9, Employee Space and Facilities.

PURPOSE(S):

Space Management Center (SMC) uses the CSMS information system to allocate the offices, workstations, and facility workspaces for FCC employees and contractors following the FCC/National Treasury Union (NTEU) space assignment policy. In the event of an emergency, the SMC staff will devise a “Reconstitution Plan” in which they will extract information from the CSMS information system to create the space requirements for alternative work location(s) in other buildings to be used to relocate FCC employees and/or contractors. This information may be shared with the General Services Administration (GSA), National Telecommunications and Information Administration (NTIA), Department of Homeland Security (DHS), and Federal Emergency Management Agency (FEMA), etc.; District of Columbia, Virginia, and Maryland state governments, etc.; and other Federal, state, and local agencies involved in Federal agency evacuation, emergency facilities, space management, and/or relocation policies and plans, etc., as part of the FCC's Reconstitution Plan.

ROUTINE USES OF RECORDS MAINTAINED IN THE SYSTEM, INCLUDING CATEGORIES OF USERS AND THE PURPOSES OF SUCH USES:

Information about individuals in this system of records may routinely be disclosed under the following conditions:

1. Emergency Response—A record on an individual in this system of records may be disclosed to emergency medical personnel, e.g., doctors, nurses, and/or paramedics, or to law enforcement officials in case of a medical or other emergency involving the FCC employee without the subsequent notification to the individual identified in 5 U.S.C. 552a(b)(8);

2. First Responders—A record from this system of records may be disclosed to law enforcement officials, Department of Homeland Security (DHS), Federal Emergency Management Agency (FEMA), Department of Defense (DOD), National Telecommunications and Information Administration (NTIA), White House Communications Agency, other federal agencies, and state and local emergency response officials, e.g., fire, safety, and rescue personnel, etc., and medical personnel, e.g., doctors, nurses, and paramedics, etc., in case of an emergency situation at FCC facilities without the subsequent notification to the individual identified in 5 U.S.C. 552a(b)(8);

3. Reconstitution Plan—A record from this system of records may be disclosed to the General Services Administration (GSA), National Telecommunications and Information Administration (NTIA), Department of Homeland Security (DHS), and Federal Emergency Management Agency (FEMA), etc.; District of Columbia, Virginia, and Maryland state governments, etc.; and other Federal, state, and local agencies involved in Federal agency evacuation, emergency facilities, space management, and/or relocation policies and plans, etc.

4. Congressional Inquiries—When requested by a Congressional office in response to an inquiry by an individual made to the Congressional office for their own records;

5. Government-wide Program Management and Oversight—When requested by the National Archives and Records Administration (NARA) for the purpose of records management inspections conducted under authority of 44 U.S.C. 2904 and 2906; when the U.S. Department of Justice (DOJ) is contacted in order to obtain that department's advice regarding disclosure obligations under the Freedom of Information Act; or when the Office of Management and Budget (OMB) is contacted in order to obtain that office's advice regarding obligations under the Privacy Act;

6. Breach Notification—A record from this system may be disclosed to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information in the Cadapult Space Management System (CSMS) consists of electronic data, files, and records, which are housed in the FCC's computer network databases.

RETRIEVABILITY:

Information in the CSMS information system is retrieved by the FCC employee or contractor's name, workspace location, and organizational unit, e.g., bureau/office.

SAFEGUARDS:

The CSMS information system's electronic records, data, and files are maintained in the FCC's computer network databases. Access to the information in these databases is restricted to authorized CMS supervisors, staff, and contractors and to staff and contractors in the Information Technology Center (ITC), who maintain the FCC's computer network databases. Other FCC employees and contractors may be granted access on a “need-to-know” basis. The FCC's computer network databases are protected by the FCC's security protocols, which include controlled access, passwords, and other security features. The information that is resident on the SMC database is backed-up routinely onto magnetic media. Back-up tapes are stored on-site and at a secured, off-site location.

RETENTION AND DISPOSAL:

The FCC maintains information about the FCC employee and/or contractor only as long as he/she works at the Commission. The records in this system are deleted entirely upon the FCC employee's retirement, voluntary resignation, transfer, or re-assignment outside the Commission, and when the contractor is no longer working at the Commission. The CMS staff uses a sign-out procedure to verify that the FCC employee or contractor is no longer working at the Commission, then the individual's information is deleted from the CSMS system.

SYSTEM MANAGER(S) AND ADDRESS:

Space Management Center (SMC), Office of Managing Director (OMD), Federal Communications Commission (FCC), 445 12th Street, SW., Washington, DC 20554.

NOTIFICATION PROCEDURE:

Address inquiries to the Space Management Center (SMC), Office of Managing Director (OMD), Federal Communications Commission (FCC), 445 12th Street, SW., Washington, DC 20554.

RECORD ACCESS PROCEDURES:

Address inquiries to the Space Management Center (SMC), Office of Managing Director (OMD), Federal Communications Commission (FCC), 445 12th Street, SW., Washington, DC 20554.

CONTESTING RECORD PROCEDURES:

Address inquiries to the Space Management Center (SMC), Office of Managing Director (OMD), Federal Communications Commission (FCC), 445 12th Street, SW., Washington, DC 20554.

RECORD SOURCE CATEGORIES:

The sources for the records in the CSMS information system include the FCC employee and/or contractor, his/her workspace requirements, organization, pay type, grade, supervisory status, bargaining unit, workspace location, work telephone number, and IT barcodes on IT equipment assigned to the employee or contractor.

EXEMPTIONS CLAIMED FOR THE SYSTEM:

None.

Federal Communications Commission.
Marlene H. Dortch,
Secretary.

[FR Doc. 2010-23163 Filed 9-15-10; 8:45 am]

BILLING CODE 6712-01-P